DEPARTMENT OF LABOR

Employment and Training Administration

[TA-W-81,097]

Kimberly-Clark Worldwide, Inc.,a Subsidiary of Kimberly-Clark Corporation,Everett Mill,Including On-Site Leased Workers From Injury Free, Incorporated, Ventilation Power Cleaning, Inc., Covenant Security Services, Healthforce, UNISEVE Corporation, Jacobs Engineering, STAFFLOGIX Corporation, and Swift Trucking,Everett, WA; Amended Certification Regarding Eligibility To Apply for Worker Adjustment Assistance

In accordance with Section 223 of the Trade Act of 1974, as amended (“Act”), 19 U.S.C. 2273, the Department of Labor issued a Certification of Eligibility to Apply for Worker Adjustment Assistance on December 16, 2011, applicable to workers of Kimberly-Clark Worldwide, Inc., a subsidiary of Kimberly-Clark Corporation, Everett Mill, including on-site leased workers from Injury Free, Incorporated, Ventilation Power Cleaning, Inc., Covenant Security Services, Healthforce, UNISEVE Corporation, and Jacobs Engineering, Everett, Washington. The Department issued an amended certification on January 25, 2012 to include on-site leased workers from STAFFLOGIX Corporation. The subject firm produces tissue products and wood pulp.

Following the allegation that workers of Swift Trucking are part of the subject worker group, the Department reviewed the certification for workers of the subject firm.

The company reports that workers leased from Swift Trucking were employed on-site at the Everett, Washington location of Kimberly-Clark Worldwide, Inc., a subsidiary of Kimberly-Clark Corporation, Everett Mill. The Department has determined that these workers were sufficiently under the control of the subject firm to be considered leased workers.

Based on these findings, the Department is amending this certification to include workers leased from Swift Trucking working on-site at the Everett, Washington location of the subject firm.

The amended notice applicable to TA-W-81,097 is hereby issued as follows:

All workers of Kimberly-Clark Worldwide, Inc., a subsidiary of Kimberly-Clark Corporation, Everett Mill, including on-site leased workers from Injury Free, Incorporated, Ventilation Power Cleaning, Inc., Covenant Security Services, Healthforce, UNISEVE Corporation, Jacobs Engineering, STAFFLOGIX Corporation, and Swift Trucking, Everett, Washington, who became totally or partially separated from employment on or after February 13, 2012, through December 16, 2013, and all workers in the group threatened with total or partial separation from employment on the date of certification through two years from the date of certification, are eligible to apply for adjustment assistance under Chapter 2 of Title II of the Trade Act of 1974, as amended.

Signed in Washington, DC, this 18th day of July 2012.
Del Min Amy Chen,
Certifying Officer, Office of Trade Adjustment Assistance.

[FR Doc. 2012-18412 Filed 7-27-12; 8:45 am]

BILLING CODE 4510-FN-P